DEPARTMENT OF HEALTH AND HUMAN SERVICES

Centers for Disease Control and Prevention

[Program Announcement 02187]

Cooperative Agreement to the Medical and Health Research Association of New York City, Inc.; Notice of Award of Funds

A. Purpose

The Centers for Disease Control and Prevention (CDC) announces the availability of fiscal year (FY) 2002 funds for a cooperative agreement program for the Medical and Health Research Association of New York City, Inc. This program addresses the “Healthy People 2010” focus area of Immunization and Infectious Diseases, specifically objective 14.26, “Increase the proportion of children who participate in fully operational population-based immunization registries.”

The purpose of the program is to: (1) Forge new, and strengthen existing, partnerships with immunization registry stakeholders; (2) promote the use of immunization registries as a standard practice in the delivery of health services; and (3) educate stakeholders about the use and benefits of immunization registries.

B. Eligible Applicants

Assistance will be provided only to the Medical and Health Research Association of New York City, Inc.(MHRA). No other applications are solicited. MHRA is the only organization that has an established relationship with state and local health department immunization registry developers, and the technical and programmatic expertise necessary to carry out this project. MHRA is a unique organization because its members have technical expertise in the areas of registry partnerships, immunization registry participation by providers and children, registry promotion and education, registry data quality and use, privacy and confidentiality of electronic data, electronic information exchange and integration, and resource development.

Note: Title 2 of the United States Code section 1611 states that an organization described in section 501(c)(4) of the Internal Revenue Code that engages in lobbying activities is not eligible to receive Federal funds constituting an award, grant or loan.

C. Availability of Funds

$360,000 is being awarded in FY 2002. It is expected that the award will begin on or about September 30, 2002 and will be made for a 12-month budget period within a project period of up to five years. Funding estimates may change.

D. Where To Obtain Additional Information

This and other CDC announcements, the necessary applications, and associated forms can be found on the CDC home page Internet address—­ http://www.cdc.gov. Click on “Funding” then “Grants and Cooperative Agreements.”

For business management assistance, contact: Peaches Brown, Grants Management Specialist, Procurement and Grants Office, Centers for Disease Control and Prevention, 2920 Brandywine Road, Room 3000, Atlanta, GA 30341-4146, Telephone number: (770) 488-2738, E-mail address: prb0@cdc.gov.

For program technical assistance, contact:Karen Fowler, Program Analyst, Systems Development Branch, DMD, National Immunization Program, Mailstop E-62, 1600 Clifton Rd, Atlanta, GA 30333, Telephone number: (404) 639-8295, E-mail address: kgf1@cdc.gov.

Dated: September 20, 2002.
Sandra R. Manning,
CGFM, Director, Procurement and Grants Office, Centers for Disease Control and Prevention.

[FR Doc. 02-24576 Filed 9-26-02; 8:45 am]

BILLING CODE 4163-18-P